FEDERAL COMMUNICATIONS COMMISSION

47 CFR Chapter I

[CC Docket No. 96-61; FCC 00-308]

Policy and Rules Concerning the Interstate Interexchange Marketplace

AGENCY: Federal Communications Commission.

ACTION: Final rule.

SUMMARY: This document dismisses as moot requests asking that the Commission forbear from application of the rate integration requirements of the Communications Act to commercial mobile radio service providers. This action is taken to comport with the recent decision of the U.S. Court of Appeals vacating the Commission's rate integration rules as applied to commercial mobile radio service carriers and remanding the matter to the Commission for further proceedings.

DATES: Effective September 15, 2000.

FOR FURTHER INFORMATION CONTACT: Peter Wolfe, 202-418-1310.

SUPPLEMENTARY INFORMATION: This is a summary of the Commission's Memorandum Opinion and Order (MO&O) in CC Docket No. 96-61, FCC 00-308, adopted August 17, 2000, and released August 23, 2000. The complete text of this MO&O is available for inspection and copying during normal business hours in the FCC Reference Information Center, Courtyard Level, 445 12th Street, S.W., Washington, DC, and also may be purchased from the Commission's copy contractor, International Transcription Services (ITS, Inc.), CY-B400, 445 12th Street, S.W., Washington, DC.

Synopsis of the Memorandum Opinion and Order

1. In this Memorandum Opinion and Order (MO&O), the Commission addresses requests filed by BellSouth, AT&T, the Cellular Telecommunications Industry Association, Nextel, Omnipoint, the Personal Communications Industry Association, and PrimeCo, asking that the Commission forbear from application of the rate integration requirements of section 254(g) of the Communications Act, as amended (47 U.S.C. 254(g)) to commercial mobile radio service (CMRS) providers.

2. In light of the July 14, 2000, decision of the U.S. Court of Appeals for the District of Columbia Circuit vacating the Commission's rate integration rules as applied to CMRS carriers and remanding the matter to the Commission for further proceedings, the Commission finds that the forbearance requests are moot and premature. Accordingly, the requests are dismissed as discussed in detail in the full text of the MO&O.

Ordering Clauses

3. Pursuant to sections (4)(I) and 10 of the Communications Act of 1934, as amended, 47 U.S.C. 154(I) and 160, that the Petition for Forbearance of BellSouth is dismissed.

4. In addition, the requests for Forbearance contained in the comments filed by AT&T, CTIA, CommNet, Nextel, Omnipoint, PCIA, and PrimeCo are dismissed.

Federal Communications Commission.
Magalie Roman Salas,
Secretary.

[FR Doc. 00-23691 Filed 9-14-00; 8:45 am]

BILLING CODE 6712-01-P